DEPARTMENT OF TRANSPORTATION

Pipeline and Hazardous Materials Safety

Administration Hazardous Materials: Actions on Special Permit Applications

AGENCY: Office of Hazardous Materials Safety, Pipeline And Hazardous Materials Safety Administration (PHMSA), DOT.

ACTION: Notice of actions on special permit applications.

SUMMARY: In accordance with the procedures governing the application for, and the processing of, special permits from the Department of Transportation's Hazardous Material Regulations (49 CFR part 107, subpart B), notice is hereby given of the actions on special permits applications in (October to October 2014). The mode of transportation involved are identified by a number in the “Nature of Application” portion of the table below as follows: 1—Motor vehicle, 2—Rail freight, 3—Cargo vessel, 4—Cargo aircraft only, 5—Passenger—carrying aircraft. Application numbers prefixed by the letters EE represent applications for Emergency Special Permits. It should be noted that some of the sections cited were those in effect at the time certain special permits were issued.

Issued in Washington, DC, on September 8, 2015.
Donald Burger,
Chief, Special Permits and Approvals Branch.

S.P. No. | Applicant | Regulation(s) | Nature of Special Permit Thereof
12092-M | KMR Industries, LLC, Columbia, MD | 49 CFR 180.209 | To modify the special permit to authorize DOT specification 4BW240 or 4BW260 cylinder closed by plugs or flanges to authorize up to 1000 pounds water capacity.
14791-M | Heliqwest International, Inc., Montrose, CO | 49 CFR 172.101 HMT Column (9B), 172.200, 172.300, 172.400 | To modify the special permit to remove the requirement for having two pilots aboard any multi-engine aircraft carrying explosives.
15793-M | Northern Air Cargo Inc., Anchorage, AK | 49 CFR 172.101 Column (9B) | To modify the special permit by adding the following in paragraph 7(g)(3) “or alternatively—FAA-assigned Principal Operations or Maintenance Program”.
16427-M | Washington Department of Transportation Ferries Division, Seattle, WA | 49 CFR 172.101 Hazardous Materials Table Column (10A), stowage categories “01“, “02”, “04”, and “05” | To reissue the special permit that was originally issued on an emergency basis with a two year renewal.
13997-M | Maritime Helicopters, Inc., Homer, AK | 49 CFR 172.101(9b), 172.204(c)(3), 173.27(b)(2), 175.30(a)(1), 172.200, 172.300, 172.400, 175.75, 172.301(c), 172.302(c), and Part 178 | To modify the special permit to authorize additional hazardous materials.
16170-M | Hydro Stat LLC, Holly, MI | 49 CFR 180.213(b)(2) | To release the special permit that was originally issued on an emergency basis with a two year renewal.
15547-M | Southern California Edison (SCE), Chino, CA | 49 CFR 172.101 Column (9B), 172.204(c)(3), 173.27(b)(2) and 175.30(a)(1) in that the explosives are forbidden by cargo aircraft | To modify the special permit by updating certain information and adding additional hazardous materials.
16346-N | FIBA Technologies, Inc., Littleton, MA | 49 CFR 173.301 (a)(1) | To authorize the manufacture, mark, sale and use of a non-DOT specification hoop-wrapped carbon fiber reinforced composite gas cylinder with seamless steel liner that meets the ISO Standard 11515, except as specified herein, for the transportation in commerce of certain hazardous materials. (modes 1, 2, 3)
16391-N | Halliburton Energy Services, Inc., Carrollton, TX | 49 CFR 173.201, 173.301(f), 173.302, 173.304a | To authorize the manufacture, mark, sale and use of non-DOT specification cylinders used in oil well sampling. (modes 1, 2, 3, 4)
16373-N | Stainless Tank & Equipment Co.,LLC, Beloit, WI | 49 CFR 178.345-2, 178.346-2, 178.347-2, 178.348-2 | To authorize the manufacture, mark, sale and use of non-DOT specification cargo tank motor vehicles confirming in part to Specification DOT 406, DOT 407, and DOT 412 cargo tank motor vehicles. (mode 1)
16432-N | Panasonic Corporation of North America, Newark, NJ | 49 CFR Subparts C through H of Part 172 | To authorize the manufacture, mark, sale and use of specially-designed combination packagings for damaged or defective lithium ion batteries that originally met the requirements under 49 CFR 173.185(c). (modes 1, 2)
16318-N | Technical Chemical Company, Cleburne, TX | 49 CFR 173.167, 173.304(d) | To authorize the manufacture, mark, sale and use of a non-DOT specification packaging conforming in part with specification DOT 2Q. (modes 1, 2, 3, 4, 5)
16492-N | Construction Helicopters, Inc., Howell, MI | 49 CFR 172.101 Hazardous Materials Table Column (9B), Subpart C of Part 172, 172.301(c), 172.302(c), 173.27(b)(2), 175.30, Part 178 | To authorize the transportation in commerce of certain hazardous materials by 14 CFR Part 133 Rotorcraft External Load Operations transporting hazardous materials attached to or suspended from an aircraft and 14 CFR Part 135 operations transporting hazardous materials on board an aircraft. Such transportation is in support of construction operations when the use of cranes or other lifting devices is impracticable or unavailable or when aircraft is the only means of transportation, without being subject to certain hazard communication requirements, quantity limitations, packaging and loading and storage requirements. (mode 4)
16475-N | Volga-Dnepr Airlines LLC, Ulyanovsk, Russian Federation | 49 CFR 172.101 Hazardous Materials Table Column (9B), 173.27, 175.30(a)(1), Columns 12 and 13 of Table 3-1 of the ICAO TI | To authorize the transportation in commerce of certain hazardous materials forbidden aboard cargo aircraft only. (mode 4)
16450-N | U.S. Department of Energy, Washington, DC | 49 CFR 173.242 | To authorize the one-way transportation in commerce of stainless steel encased lithium hydride shields in an alternative packaging for disposal. (mode 1)
16509-M | Kalitta Air, LLC, Ypsilanti, MI | 49 CFR 172.101 Table Column (9B), 172.204 (c)(3), and 175.30(a)(1) | To modify the special permit by adding an additional Class 1 material. (mode 4)
16547-N | Gateway Pyrotechnic Productions, LLC, dba Gateway Fireworks Displays St. Louis, MO | 49 CFR 172.300, 172.400, 172.301(c), 173.56 | To authorize the one-time, one-way transportation of unapproved fireworks from Garden City, GA to storage in Illiopolis, IL. (mode 1)
16553-N | Kalitta Air, LLC, Ypsilanti, MI | 49 CFR 172.101 Column 9(b), 173.27(b)(2) and (3), and 175.30(a)(1) | To authorize the transportation in commerce of certain forbidden hazardous materials aboard cargo aircraft. (mode 4)

DENIED |
14779-M | Request by Corrosion Companies Inc. Washougal, WA August 24, 2015. To modify the special permit to increase the tank capacity to 8500 gallons.
10915-M | Request by Luxfer Gas Cylinders Riverside, CA August 5, 2015. To modify the special permit to allow cylinders of pressurized oxygen to exceed 3000 psig at 21°C (70°F).
16393-N | Request by Airopack Technology Group BV Waalwijk. The Netherlands, August 4, 2015. To authorize the manufacture, mark, sale and use of non-DOT specification plastic packagings, conforming in part with DOT Specification 2S, charged with compressed air for the sole purpose of expelling a nonflammable, non-toxic, and non-corrosive (non-hazardous) liquid, paste, powder, or gel, which are not subject to the Hazardous Materials Regulations (HMR), the International Civil Aviation Organization's Technical Instructions for the Safe Transport of Dangerous Goods by Air (ICAO TI), or the International Maritime Dangerous Goods (IMDG) Code.
16364-N | Request by ExodusDirect LLC Des Moines, IA August 7, 2015. To authorize the manufacture, mark, sale and use of specially designed combination packagings for transportation in commerce of certain materials without hazard labels of placards, with quantity limits not exceeding one liter for liquids or 2.85 kilograms for solids.

[FR Doc. 2015-23369 Filed 9-24-15; 8:45 am]

BILLING CODE 4909-60-M